NUCLEAR REGULATORY COMMISSION

10 CFR Part 72

[NRC-2021-0161]

RIN 3150-AK69

List of Approved Spent Fuel Storage Casks: TN Americas LLC, TN-68 Dry Storage Cask System, Certificate of Compliance No. 1027, Renewal of Initial Certificate and Amendment No. 1

AGENCY: Nuclear Regulatory Commission.

ACTION: Direct final rule; confirmation of effective date.

SUMMARY: The U.S. Nuclear Regulatory Commission (NRC) is confirming the effective date of February 22, 2022, for the direct final rule that was published in the Federal Register on December 9, 2021. This direct final rule amended the TN Americas LLC, TN-68 Dry Storage Cask System listing in the “List of approved spent fuel storage casks” to renew, for an additional 40 years, the initial certificate and Amendment No. 1 of Certificate of Compliance No. 1027.

DATES: The effective date of February 22, 2022, for the direct final rule published December 9, 2021 (86 FR 69978), is confirmed.

ADDRESSES: Please refer to Docket ID NRC-2021-0161 when contacting the NRC about the availability of information for this action. You may obtain publicly-available information related to this action by any of the following methods:

• Federal Rulemaking Website: Go to https://www.regulations.gov and search for Docket ID NRC-2021-0161. Address questions about NRC dockets to Dawn Forder; telephone: 301-415-3407; email: Dawn.Forder@nrc.gov. For technical questions, contact the individual listed in the FOR FURTHER INFORMATION CONTACT section of this document.

• NRC's Agencywide Documents Access and Management System (ADAMS): You may obtain publicly-available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov. The final amendment to the certificate of compliance, final changes to the technical specifications, and final safety evaluation report can be viewed in ADAMS under Accession No. ML22004A189.

• NRC's PDR: You may examine and purchase copies of public documents, by appointment, at the NRC's PDR, Room P1 B35, One White Flint North, 11555 Rockville Pike, Rockville, Maryland 20852. To make an appointment to visit the PDR, please send an email to PDR.Resource@nrc.gov or call 1-800-397-4209 or 301-415-4737, between 8:00 a.m. and 4:00 p.m. (ET), Monday through Friday, except Federal holidays.

FOR FURTHER INFORMATION CONTACT: Solomon Sahle, Office of Nuclear Material Safety and Safeguards, U.S. Nuclear Regulatory Commission, Washington, DC 20555-0001; telephone: 301-415-3781, email: Solomon.Sahle@nrc.gov.

SUPPLEMENTARY INFORMATION: On December 9, 2021 (86 FR 69978), the NRC published a direct final rule amending its regulations in part 72 of title 10 of the Code of Federal Regulations to revise the TN Americas LLC, TN-68 Dry Storage Cask System listing in the “List of approved spent fuel storage casks” to renew, for an additional 40 years, the initial certificate and Amendment No. 1 of Certificate of Compliance No. 1027. The renewal of the initial certificate and Amendment No. 1 revises the certificate of compliance's conditions and technical specifications to address aging management activities related to the structures, systems, and components of the dry storage system to ensure that these will maintain their intended functions during the period of extended storage operations. In the direct final rule, the NRC stated that if no significant adverse comments were received, the direct final rule would become effective on February 22, 2022. The NRC did not receive any comments on the direct final rule. Therefore, this direct final rule will become effective as scheduled.

Dated: January 18, 2022.
For the Nuclear Regulatory Commission.
Angella M. Love Blair,
Acting Chief, Regulatory Analysis and Rulemaking Support Branch, Division of Rulemaking, Environmental, and Financial Support, Office of Nuclear Material Safety and Safeguards.

[FR Doc. 2022-01209 Filed 1-21-22; 8:45 am]

BILLING CODE 7590-01-P